DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than July 25, 2014.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Rural Health Information Technology (HIT) Workforce Program Performance Measures.

OMB No.: 0915-xxxx—New.

Abstract: The purpose of the Rural HIT Workforce Program is to support formal rural health networks that focus on activities relating to the recruitment, education, training, and retention of HIT specialists. This program will also provide support to rural health networks that can leverage and enhance existing HIT training materials to develop formal training programs, which will provide instructional opportunities to current health care staff, local displaced workers, rural residents, veterans, and other potential students. These formal training programs will result in the development of a cadre of HIT workers who can help rural hospitals and clinics implement and maintain systems such as electronic health records (EHR), telehealth, home monitoring, and mobile health technology; and meet EHR meaningful use standards.

Need and Proposed Use of the Information: For this program, performance measures were drafted to provide data useful to the program and to enable HRSA to provide aggregate program data required by Congress under the Government Performance and Results Act (GPRA) of 1993 (Pub. L. 103-62). These measures cover the principal topic areas of interest to the Office of Rural Health Policy, including: (a) Service area; (b) demographics; (c) network; (d) sustainability; (e) access to education; (f) education and training; and (g) workforce recruitment and retention. Several measures will be used for this program. These measures will speak to the Office of Rural Health Policy's progress toward meeting the goals set.

Summary of Prior Comments and Agency Response: A 60-day Federal Register notice was published in the Federal Register on February 11, 2014 (see, 79 FR 8197). There were no comments.

Likely Respondents: Rural Health Information Technology Workforce Program award recipients.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Rural Health Information Technology (HIT) Workforce Program Performance Measures | 15 | 1 | 15 | 3.6 | 54
Total | 15 | 1 | 15 | 3.6 | 54

Dated: June 19, 2014.
Jackie Painter,
Acting Director, Division of Policy and Information Coordination.

[FR Doc. 2014-14804 Filed 6-24-14; 8:45 am]

BILLING CODE 4165-15-P